DEPARTMENT OF COMMERCE

National Oceanic and Atmospheric Administration

50 CFR Part 648

[Docket No. 980414095-8240-02; I.D. 121800D]

Fisheries of the Northeastern United States; Dealer Reporting Requirements

AGENCY: National Marine Fisheries Service (NMFS), National Oceanic and Atmospheric Administration (NOAA), Commerce.

ACTION: Notification of termination of the deferral of Interactive Voice Response (IVR) System reporting requirements for Atlantic cod and haddock purchases.

SUMMARY: NMFS announces that it is terminating the current deferral of IVR reporting requirements of Atlantic cod and haddock beginning January 28, 2001. One of the management measures for Atlantic cod includes two conditional 1-month closures in the Gulf of Maine (GOM) when the trigger of 1.67 million lbs (759 mt) is reached. One management measure for haddock is an adjustment to the daily landing limit as specified in Framework 33 to the Northeast Multispecies Fishery Management Plan (FMP) to provide the industry with the opportunity to harvest at least 75 percent of the total allowable catch (TAC) for the 2000-2001 fishing year (TAC=6,252 mt, 75 percent TAC=4,689 mt). If the Regional Administrator, Northeast Regional Office, NMFS (RA) projects that less than 75 percent of the TAC for haddock will be harvested by the end of the fishing year NMFS may adjust, through publication of a notification in the Federal Register, the trip limit per DAS and/or the maximum trip limit to an amount that is determined to be sufficient to allow harvesting of at least 75 percent of the target TAC, but not to exceed the target TAC. This termination of deferral for Atlantic cod and haddock is necessary to collect accurate data on a real-time basis to ensure that these fisheries are maintained at sustainable levels. Any dealer issued a Northeast (NE) Multispecies permit must submit, through the IVR system, a weekly summary of Atlantic cod and haddock purchased beginning January 28, 2001.

DATES: Effective January 28, 2001.

FOR FURTHER INFORMATION CONTACT: Sandra Arvilla, (978) 281-9255 or Gregory Power, (978) 281-9304.

SUPPLEMENTARY INFORMATION: To effectively monitor landings of quota-managed species on a timely basis, NMFS issued a final rule (63 FR 52639, October 1, 1998) requiring federally-permitted dealers to submit a weekly summary of purchases of quota-managed species through the IVR system within 3 days of the end of the reporting week. To minimize the burden of dealer reporting requirements, the regulations implementing the use of an IVR system also include authorization (50 CFR 648.7(a)(ii)) for the RA to defer the IVR reporting requirements for any species if landings are not expected to reach levels that would cause the applicable target exploitation rate specified in the FMP for that species to be achieved, resulting in specific management changes. At that time the RA deferred IVR reporting requirements for Atlantic mackerel, butterfish and, regulated NE Multispecies, which included Atlantic cod and haddock.

In order to effectively monitor Atlantic cod and haddock landings relative to the trigger and TAC, NMFS is requiring any dealer issued a NE Multispecies permit to submit, through the IVR system, a weekly summary of Atlantic cod and haddock purchases beginning January 28, 2001. IVR reports must be submitted within 3 days of the end of the reporting week. If the RA determines that weekly IVR reports of Atlantic cod and haddock purchases are no longer necessary, notification of deferral will be published in the Federal Register.

Dealers must continue to report through the IVR system, their purchases of the species specified in 50 CFR 648.7(a) for which IVR reporting requirements have not been deferred. Currently, these species are summer flounder, scup, black sea bass, Illex squid and Loligo squid, spiny dogfish, and Atlantic bluefish. If no purchases of any quota-managed species are made during the reporting week, a negative report, so stating, must be submitted.

As specified in 50 CFR 648.7(a)(1), dealers must continue to report purchases of all species, including those species for which IVR reporting has been deferred, on the detailed written reports.

Classification

This action is authorized by 50 CFR part 648 and is exempt from review under Executive Order 12866.

Authority: 16 U.S.C. 1801 et seq.

Dated: December 22, 2000.
Richard W. Surdi,
Acting Director, Office of Sustainable Fisheries, National Marine Fisheries Service.

[FR Doc. 00-33223 Filed 12-28-00; 8:45 am]

BILLING CODE: 3510-22-S